DEPARTMENT OF COMMERCE

National Oceanic and Atmospheric Administration

[RTID 0648-XC190]

Caribbean Fishery Management Council; Public Meeting

AGENCY: National Marine Fisheries Service (NMFS), National Oceanic and Atmospheric Administration (NOAA), Commerce.

ACTION: Notice of public hybrid meeting (in-person/virtual hybrid).

SUMMARY: The Caribbean Fishery Management Council (CFMC) will hold the 179th public hybrid meeting to address the items contained in the tentative agenda included in the SUPPLEMENTARY INFORMATION.

DATES: The 179th CFMC public hybrid meeting will be held on August 11, 2022, from 9 a.m. to 4:30 p.m., and on August 12, 2022, from 9 a.m. to 4 p.m., AST.

ADDRESSES:

Meeting address: The meeting will be held at the Courtyard by Marriott Isla Verde Beach Resort, 7012 Boca de Cangrejos Avenue, Carolina, Puerto Rico 00979.

You may join the 179th CFMC public hybrid meeting via Zoom, from a computer, tablet or smartphone by entering the following address:

Join Zoom Meeting

https://us02web.zoom.us/j/83060685915?pwd=VmVsc1orSUtKck8xYk1XOXNDY1ErZz09

Meeting ID: 830 6068 5915

Passcode: 995658

One tap mobile

+17879451488,,83060685915#,,,,,,0#,,995658# Puerto Rico

+17879667727,,83060685915#,,,,,,0#,,995658# Puerto Rico

Dial by your location

+1 787 945 1488 Puerto Rico

+1 787 966 7727 Puerto Rico

+1 939 945 0244 Puerto Rico

Meeting ID: 830 6068 5915

Passcode: 995658

In case there are problems and we cannot reconnect via Zoom, the meeting will continue using GoToMeeting.

You can join the meeting from your computer, tablet or smartphone. https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

August 11, 2022

9 a.m.-10 a.m.

—Call to Order

—Roll Call

—Swearing in New Council Member

—Election of Officials

—Adoption of Agenda

—Consideration of 178th Council Meeting Verbatim Transcriptions

—Executive Director's Report

10 a.m.-12 p.m.

—Puerto Rico Spiny Lobster Accountability Measure (AM) Application Discussion—NOAA Fisheries

—Island-based Fishery Management Plans ([IBFMPs]/Regulations and Amendments Update—María López-Mercer and Sarah Stephenson, NOAA Fisheries

—Potential Actions for IBFMPs Amendments:

—Federal Permits for CFMC Fisheries—Maria Lopez, NOAA Fisheries

—Pelagic Species Management, Options Paper—Sarah Stephenson, NOAA Fisheries

12 p.m.-1 p.m.

—Lunch

1 p.m.-2:30 p.m.

—Scientific and Statistical Committee (SSC) Report—Richard Appeldoorn, SSC Chair

—NOAA Fisheries Southeast Fisheries Science Center (SEFSC) Update—Kevin McCarthy, NOAA Fisheries

—Ecosystem-Based Fishery Management Technical Advisory Panel (EBFM TAP) Report—Sennai Habtes, EBFMTAP Chair

—Report on July 20, 2022, District Advisory Panels (DAPs) Meeting on Deep-Water Reef Fish Fishing—Marcos Hanke, CFMC, and DAP Chairs

2:30 p.m.-3:30 p.m.

—Descending Devices in Caribbean Fisheries—Marcos Hanke, CFMC

—Nassau Grouper Kits

—U.S.V.I. Fish Traps Reduction Plan and Possible Compatibility in EEZ—Carlos Farchette

3:30 p.m.-3:45 p.m.

—Break

3:45 p.m.-4:30 p.m.

—NOAA Fisheries Draft Strategy for Advancing Equity and Environmental Justice (EEJ)—Heather Blough and Brent Stoffle, NOAA Fisheries

—Public Comment Period (5-Minute Presentations)

4:30 p.m.

—Adjourn for the day

4:30 p.m.-5 p.m.

—Closed Session

August 12, 2022

9 a.m.-9:30 a.m.

—Western Central Atlantic Fishery Commission (WECAFC) 18th Session Update—Laura Cimo, NOAA Fisheries

—WECAFC Spawning Aggregations Working Group, Big Fish Campaign—Ana Salceda

9:30 a.m.-9:45 a.m.

—NOAA Fisheries Protected Resources Update—NOAA Fisheries/SERO Staff

9:45 a.m.-10:45 a.m.

—Outreach and Education Report—Alida Ortiz, OEAP Chair

—Social Media Report—Cristina Olán, CFMC

10:45 a.m.-11 a.m.

—Break

11 a.m.-11:15 a.m.

—Gliders, Sail Drones and Autonomous Oceanographic Observations in the U.S. Caribbean—Patricia Chardón, Caribbean Coastal Ocean Observing System (CARICOOS)

11:15 a.m.-12 p.m.

—Liaison Officers Reports (15 minutes each)

—St. Croix, U.S.V.I.—Mavel Maldonado,

—St. Thomas/St. John, U.S.V.I.—Nicole Greaux

—Puerto Rico—Wilson Santiago

12 p.m.-1:30 p.m.

—Lunch Break

1:30 p.m.-2:30 p.m.

—Enforcement Reports (15-minutes each):

—Puerto Rico-DNER

—USVI—DPNR

—U.S. Coast Guard

—NMFS/NOAA

2:30 p.m.-3 p.m.

—CFMC Advisory Bodies Membership

—Code of Conduct and Conflict of Interest

3 p.m.-3:30 p.m.

—Other Business

3:30 p.m.-4 p.m.

—Public Comment Period (5-Minute Presentations)

—Next Meeting

—Adjourn

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on August 11, 2022, at 9 a.m. AST, and will end on August 12, 2022 at 4 p.m. AST. Other than the start time on the first day of the meeting, interested parties should be aware that discussions may start earlier or later than indicated in the agenda, at the discretion of the Chair.

Special Accommodations

Simultaneous interpretation will be provided.

For simultaneous interpretation English-Spanish-English follow your Zoom screen instructions. You will be asked which language you prefer when you join the meeting.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: July 18, 2022.
Rey Israel Marquez,
Acting Deputy Director, Office of Sustainable Fisheries, National Marine Fisheries Service.

[FR Doc. 2022-15642 Filed 7-21-22; 8:45 am]

BILLING CODE 3510-22-P